DEPARTMENT OF THE INTERIOR

Bureau of Land Management

[LLCOS05000-L10100000-PH0000]

Notice of Public Meeting, Southwest Colorado Resource Advisory Council Meeting

AGENCY: Bureau of Land Management, Interior.

ACTION: Notice of public meeting.

SUMMARY: In accordance with the Federal Land Policy and Management Act (FLPMA) and the Federal Advisory Committee Act of 1972 (FACA), the U.S. Department of the Interior, Bureau of Land Management (BLM) Southwest Colorado Resource Advisory Council (RAC) will meet in June, August and October 2011.

DATES: Southwest Colorado RAC meetings will be held on June 3, 2011, in Norwood, Colorado; August 26, 2011, in Gunnison, Colorado; and October 28, 2011, in Durango, Colorado.

The meetings will begin at 9 a.m. and adjourn at approximately 4 p.m. A public comment period regarding matters on the agenda will be held at 2:30 p.m.

ADDRESSES: The Southwest Colorado RAC meetings will be held June 3, 2011, at the Norwood Community Center at 1670 Naturita Street, Norwood, Colorado 81423; August 26, 2011, at the Holiday Inn Express at 910 E Tomichi, Gunnison, Colorado 81230; and October 28, 2011, at the San Juan Public Lands Center, 15 Burnett Court, Durango, Colorado 81301.

FOR FURTHER INFORMATION CONTACT: Lori Armstrong, BLM Southwest District Manager, 2505 S. Townsend Avenue, Montrose, CO, telephone 970-240-5300; or Shannon Borders, Public Affairs Specialist, 2505 S. Townsend Avenue, Montrose, CO, telephone 970-240-5300.

Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: The Southwest Colorado RAC advises the Secretary of the Interior, through the Bureau of Land Management, on a variety of public land issues in Colorado.

Topics of discussion for all Southwest Colorado RAC meetings may include field manager and working group reports, recreation, fire management, land-use planning, invasive species management, energy and minerals management, travel management, wilderness, land exchange proposals, cultural resource management and other issues as appropriate.

These meetings are open to the public. The public may present written comments to the RACs. Each formal RAC meeting will also have time, as identified above, allocated for hearing public comments. Depending on the number of persons wishing to comment and time available, the time for individual oral comments may be limited.

Dated: April 22, 2011.
Helen M. Hankins,
State Director.

[FR Doc. 2011-10392 Filed 4-28-11; 8:45 am]

BILLING CODE 4310-JB-P